DEPARTMENT OF DEFENSE

Office of the Secretary

Design Criteria Standard for Electronic Records Management Software Applications

AGENCY: Office of the Assistant Secretary of Defense for Command, Control, Communications, and Intelligence DoD.

ACTION: Notice of availability.

SUMMARY: The DoD Standard, “Design Criteria Standard for Electronic Records Management Software Applications” is being revised. The document sets forth mandatory requirements for software applications used by Department of Defense organizations to manage their records. The current version has been endorsed, with some recommendations, by the National Archives and Records Administration (NARA) for other Federal Agency use. A draft of the revised version, which incorporates security markings and related issues, as well as the NARA recommendations, is available for review and comment.

DATES: Submit comments by January 19, 2001.

ADDRESSES: Download the document and comment form from URL: http://jitc.fhu.disa.mil/recmgt. Requests and comments may be e-mailed to: matsuurs@fhu.disa.mil.

FOR FURTHER INFORMATION CONTACT: Steve Matsuura, telephone (520) 538-5169.

Dated: November 14, 2000.
Patricia L. Toppings,
Alternate OSD Federal Register Liaison Officer, Department of Defense.

[FR Doc. 00-29558 Filed 11-17-00; 8:45 am]

BILLING CODE 5001-10-M